DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of January, 2002.

In order for an affirmative determination to be made and a certification of eligibility to apply for worker adjustment assistance to be issued, each of the group eligibility requirements of Section 222 of the Act must be met.

(1) that a significant number or proportion of the workers in the workers' firm, or an appropriate subdivision thereof, have become totally or partially separated,

(2) that sales or production, or both, of the firm or subdivision have decreased absolutely, and

(3) that increases of imports of imports of articles like or directly competitive with articles produced by the firm or appropriate subdivision have contributed importantly to the separations, or threat thereof, and to the absolute decline in sales or production.

Negative Determinations for worker Adjustment Assistance

In each of the following cases the investigation revealed that criterion (3) has not been met. A survey of customers indicated that increased imports did not contribute importantly to worker separations at the firm.

TA-W-40,358; Pennsylvania Tool and Gages, Inc., Meadville, PA

TA-W-39,522; JLG Industries, Inc., Bedford, PA

TA-W-39,302; Honeywell Aircraft Landing Systems, South Bend, IN

TA-W-40,564; Texfi Industries, New York, NY

TA-W-40,314 & A; Trout Lake Farm LLC, Trout Lake, WA and Moses Lake, WA

TA-W-40,451; Modern Prototype, Troy, MI

TA-W-39,907; Alcoa Fujikura Ltd, Optical Fiber Systems, Houston, TX

In the following cases, the investigation revealed that the criteria for eligibility have not been met for the reasons specified.

Increased imports did not contribute importantly to worker separations at the firm.

TA-W-39,056; Peerless Pattern Works, Portland, OR

TA-W-39,433; The Penn Companies, St. Peters, MO

TA-W-40,071; PTC Alliance, Darlington, OH

TA-W-40,275; Tyco Electronics, Fiber Optics Div., Glen Rock, PA

TA-W-40,435; Telaxis Communications, South Deerfield, MA

The workers firm does not produce an article as required for certification under Section 222 of the Trade Act of 1974.

TA-W-40,560; DataMark, Inc., El Paso, TX

TA-W-40,479; Gate Gourmet International, Unit 498, Charlotte, NC

TA-W-40,441; Road Machinery Co., Bayard, NM

TA-W-40,562; Lake Superior and Ishpiming Railroad Co., Marquette, MI

TA-W-39,919; Antec/Keptel, Tinton Falls, NJ

Affirmative Determinations for Worker Adjustment Assistance

The following certifications have been issued; the date following the company name and location of each determination references the impact date for all workers of such determination.

TA-W-40,125; Arrow/SI, Winsted, CT: September 13, 2000.

TA-W-40,123; Crown Pacific Limited Partnership, Coeur D'Alene, ID: August 30, 2000.

TA-W-40,028; Story and Clark Piano Co., A Div. of QRS Music Rolls, Seneca, PA: August 30, 2000.

TA-W-39,939; Willamette Industries, Inc., Korpine Particleboard Div., Bend, OR: August 17, 2000.

TA-W-39,539; Mission Valley Fabrics, New Braunfels, TX: June 14, 2000.

TA-W-39,191; NVN Corp., Clifton, NJ: April 3, 2000.

TA-W-40,258; Superior Uniform Service Group, Inc., McGehee Industries, McGehee, AR: October 2, 2000.

TA-W-40,249; Liebert Corp., Irvine California Operations, Irvine, CA: September 27, 2000.

TA-W-40,243; Paulson Wire Rope Corp., Sunbury, PA: October 4, 2000.

TA-W-40,225; Atotech USA, State College, PA: October 4, 2000.

TA-W-40,198; Scion Valley, Inc., Meridian, TX: September 27, 2000.

TA-W-40,078; Guilford Mills, Pine Grove, PA: September 10, 2000.

TA-W-40,276; Dorel Juvenile Group, Inc., Formerly Cosco, Inc., Ft. Smith, AR: October 8, 2000.

TA-W-39,964 & A; NACCO Industries, Inc., Materials Handling Group, Assembly Building, Danville, IL and Parts Distribution Center, Danville, IL: June 26, 2000.

TA-W-40,520 & A; Hoskins Manufacturing Co., Mio, MI and Lewiston, MI: November 27, 2000.

TA-W-40,510; Applied Concepts, Inc., Warrendale, PA: November 14, 2000.

TA-W-40,491 & A; Wesley Industries, Inc., Bloomfield Hills, MI and New Haven Foundry, New Haven, MI: November 20, 2000.

TA-W-40,408; Carrier Corp., Conway Refrigeration Operations, Conway, AR: October 19, 2000.

TA-W-40,393; Stylemaster Apparel, Inc., Union, MO: November 27, 2000.

TA-W-40,329; D. K. Mold and Engineering, Inc., Wyoming, MI: October 23, 2000.

TA-W-39,356; Kendall Healthcare, Chatsworth, CA: May 16, 2000.

TA-W-39,584; Laco Sportswear, Inc., Chattanooga, TN: June 25, 2000.

TA-W-39,670 & A; Lamb-Grays Harbor Co., Hoquiam, WA and Meridian, MS: July 9, 2000.

TA-W-40,099; Shasta Paper Co., Anderson, CA: September 4, 2000.

TA-W-40,178; Corning Cable Systems, Optical Assemblies Plant, Hickory, NC: September 20, 2000.

TA-W-40,180; Skinner Engine Co., Erie, PA: September 27, 2000.

TA-W-40,261; Capitol Manufacturing, Harsco Corp. Gas and Fluid Control Group, Lansing, OH: October 4, 2000.

TA-W-40,404; Fender Musical Instruments, Westerly. RI: November 27, 2000.

TA-W-40,420 & A; International Wire Group, Inc., Bare Wire Div., Plant #4, Pine Bluff, AR and Shunt Plant, Pine Bluff, AR: October 19, 2000.

TA-W-40,462; Vishay Vitramon, Roanoke, VA: December 12, 2000.

TA-W-40,466; Precision Cable Assemblies, Logansport, IN: December 14, 2000.

TA-W-40,532; Rich Products Manufacturing Corp., Appleton Div., Appleton, WI: November 1, 2000.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of January, 2002.

In order for an affirmative determination to be made and a certification of eligibility to apply for NAFTA-TAA the following group eligibility requirements of Section 250 of the Trade Act must be met:

(1) that a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05067 & A; Lamb-Grays Harbor Co., Hoquiam, WA and Meridian, MS.

NAFTA-TAA-05392 & A; International Wire Group, Inc., Bare Ware Div., Plant #4, Pine Bluff, AR and Bare Wire Div., Shunt Plant, Pine Bluff, AR.

NAFTA-TAA-05573; Metalloy Corp., Hudson, MI.

NAFTA-TAA-05638; Scientific Molding Corp. Ltd., SMC Texas Div., Brownsville, TX.

NAFTA-TAA-04773; PSC Scanning, Eugene, OR.

NAFTA-TAA-04966; The Penn Companies, St. Peters, MO.

NAFTA-TAA-05288; Curtron Manufacturing, Inc., Travelers Rest, SC.

NAFTA-TAA-05424; Paulson Wire Rope Corp., Sunbury, PA.

NAFTA-TAA-05524; Tresco Tool, Inc., Guys Milles, PA.

NAFTA-TAA-05584; Carrier Corp., Conway Refrigeration Operation, Conway, AR.

NAFTA-TAA-05590; Hoskins Manufacturing Co., Mio, MI.

NAFTA-TAA-05591; Hoskins Manufacturing Co., Lewiston, MI.

NAFTA-TAA-05611; Stylemaster Apparel, Inc., Union, MO.

NAFTA-TAA-05665; JBI LP, Osseo, WI.

NAFTA-TAA-04732; Peerless Pattern Works, Portland, OR.

The workers firm does not produce an article as required for certification under Section 250(a), Subchapter D, Chapter 2, Title II, the Trade Act of 1974, as amended.

NAFTA-TAA-05162; NACCO Industries, Inc., Materials Handling Group, Parts Distribution Center, Danville, IL

Affirmative Determinations NAFTA-TAA

NAFTA-TAA-04956; Kendall Healthcare, Chatsworth, CA: May 16, 2000.

NAFTA-TAA-05050; Laco Sportswear, Inc., Chattanooga, TN: June 28, 2000.

NAFTA-TAA-05429; Capitol Manufacturing, Harsco Corp. Gas and Fluid Control Group, Lansing, OH: October 9, 2000.

NAFTA-TAA-05438; United For Excellence, River Falls, WI: September 13, 2000.

NAFTA-TAA-05555; The Gillette Co., Oral-B Laboratories, Iowa City, IA: November 13, 2000.

NAFTA-TAA-05585 & A; VF Jeanswear Limited Partnership, Andrews, NC and Greensboro, NC: November 20, 2000.

NAFTA-TAA-05682; Parallax Power Components LLC, Goodland, IN: December 14, 2000.

NAFTA-TAA-05692; Emerson Electric Co., Alco Controls Div., Hazlehurst, GA: December 17, 2000.

NAFTA-TAA-05618; Cherry Electrical Products, Div. of Cherry Corp., Pleasant Prairie, WI: December 3, 2000.

NAFTA-TAA-05621; Biltwell Clothing Co., Rector Sportswear, Rector, AR: November 9, 2000.

NAFTA-TAA-05628; Cooper Bussmann, Goldsboro, NC: November 27, 2000.

NAFTA-TAA-05633; Evergreen Wholesale Florist, Design Department, Seattle, WA: December 10, 2000.

NAFTA-TAA-05646; Smiley Hats, Inc., Sparks, NV.

NAFTA-TAA-05553; Guilford Mills, Inc., Pine Grove, PA: November 8, 2000.

NAFTA-TAA-05546; Storm Copper Components, Decatur, TN: November 13, 2000.

NAFTA-TAA-05499; Prime Tanning Corp., St. Joseph Plant, St. Joseph, MO: October 24, 2000.

NAFTA-TAA-05460; Summitville Tiles, Inc., Summitville Carolina Div., Morgaton, NC: October 16, 2000.

NAFTA-TAA-05423; Wabash National Corp., Wabash National, LP, Huntsville, TN: September 25, 2000.

NAFTA-TAA-05414; Bobs Candies, Inc., Including Workers of Kelly Temporary Services, Albany, GA: October 9, 2000.

NAFTA-TAA-05359; Crown Pacific Limited Partnership, Coeur D'Alene, ID: August 30, 2000.

I hereby certify that the aforementioned determinations were issued during the month of January, 2002. Copies of these determinations are available for inspection in Room C-5311, U.S. Department of Labor, 200 Constitution Avenue, NW., Washington, D.C. 20210 during normal business hours or will be mailed to persons who write to the above address.

Dated: January 22, 2002.
Edward A. Tomchick,
Director, Division of Trade Adjustment Assistance.

[FR Doc. 02-2327 Filed 1-30-02; 8:45 am]

BILLING CODE 4510-30-M